NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by November 19, 2008. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

Permit Application No. 2009-021

1. Applicant: Michael Bartalos, 30 Ramona Avenue, #2, San Francisco, CA 94103.

Activity for Which Permit Is Requested

Enter Antarctic Specially Protected Areas (ASPA's). The applicant is a participant in the USAP Artists and Writer's Program and plans to visit the historic huts (ASPA 155—Cape Evans, ASPA 157—Backdoor Bay, Cape Royds and ASPA 158 Hut Point, Ross Island) in order to take photographs and videos of the physical materials that comprise the structures and their contents. The applicant will research and report (in a blog) on the extent to which their inhabitants might have re-used and recycled the materials.

Location

McMurdo Sound region, Antarctica.

Dates

December 30, 2008 to January 30, 2009.

Nadene G. Kennedy,
Permit Officer, Office of Polar Programs.

[FR Doc. E8-24846 Filed 10-17-08; 8:45 am]

BILLING CODE 7555-01-P